DEPARTMENT OF TRANSPORTATION

Federal Aviation Administration

Proposed Advisory Circular; Propeller Instructions for Continued Airworthiness

AGENCY: Federal Aviation Administration, DOT.

ACTION: Notice of availability of proposed advisory circular and request for comments.

SUMMARY: The Federal Aviation Administration (FAA) announces the availability of proposed Advisory Circular (AC) Number 35.4-1, Propeller Instructions for Continued Airworthiness.

DATES: Comments must be received on or before February 14, 2003.

ADDRESSES: Send all comments on the proposed AC to the Federal Aviation Administration, Attn: Jay Turnberg, Engine and Propeller Standards Staff, ANE-110, 12 New England Executive Park, Burlington, MA 01803-5299.

FOR FURTHER INFORMATION CONTACT: Jay Turnberg, Engine and Propeller Standards Staff, ANE-110, at the above address; telephone: (781) 238-7116; fax: (781) 238-7199; e-mail: jay.turnberg@faa.gov.

SUPPLEMENTARY INFORMATION:

Comments Invited

A copy of the subject AC may be obtained by contacting the person named under FOR FURTHER INFORMATION CONTACT or by downloading the proposed AC from the following Internet Web site: http://www.airweb.faa.gov/rgl. The FAA invites interested parties to comment on the proposed AC. Comments should identify the subject of the AC and be submitted to the individual identified under FOR FURTHER INFORMATION CONTACT. The FAA will consider all communications received by the closing date before issuing the final AC.

Background

The propeller type certification process requires the applicant to prepare Instructions for Continued Airworthiness (ICA) under § 35.4. The ICA provides information for proper maintenance that ensures that propellers of that type design are airworthy. This AC addresses preparing ICA for propellers.

Authority: 49 U.S.C. 106(g), 40113, 44701-44702, 44704.

Issued in Burlington, Massachusetts, on December 19, 2002.
Jay J. Pardee,
Manager, Engine and Propeller Directorate, Aircraft Certification Service.

[FR Doc. 02-33127 Filed 12-31-02; 8:45 am]

BILLING CODE 4910-13-M